DEPARTMENT OF COMMERCE

International Trade Administration

[A-469-814]

Chlorinated Isocyanurates from Spain: Final Results of Antidumping Duty Administrative Review

AGENCY: Import Administration, International Trade Administration, Department of Commerce.

SUMMARY: The Department of Commerce (Department) published the preliminary results of administrative review of the antidumping duty order on chlorinated isocyanurates (chlorinated isos) from Spain on May 27, 2009. See Chlorinated Isocyanurates from Spain: Preliminary Results and Rescission, in Part, of Antidumping Duty Administrative Review, 74 FR 25215 (May 27, 2009) (Preliminary Results). The period of review (POR) is June 1, 2007 through May 31, 2008. We invited interested parties to comment on our Preliminary Results. Based on our analysis of the comments received, we have made changes to our calculations. The final dumping margin for this review is listed in the “Final Results of Review” section below.

EFFECTIVE DATE: October 1, 2009.

FOR FURTHER INFORMATION CONTACT: Myrna Lobo, AD/CVD Operations, Office 6, Import Administration, International Trade Administration, U.S. Department of Commerce, 14th Street and Constitution Avenue, NW, Washington, DC 20230; telephone (202) 482-2371.

SUPPLEMENTARY INFORMATION: On June 24, 2005, the Department published in the Federal Register an antidumping duty order on chlorinated isos from Spain. See Chlorinated Isocyanurates from Spain: Notice of Antidumping Duty Order, 70 FR 36562 (June 24, 2005) (Chlorinated Isos Order). On July 30, 2008, the Department published in the Federal Register a notice of the initiation of the antidumping duty administrative review of chlorinated isos from Spain for the period June 1, 2007 through May 31, 2008. See Initiation of Antidumping and Countervailing Duty Administrative Reviews, Request for Revocation in Part, and Deferral of Administrative Review, 73 FR 44220 (July 30, 2008).

The Department published the preliminary results of this review on May 27, 2009. See Preliminary Results. We invited parties to comment on our preliminary results of review. The respondent, Aragonesas Industrias y Energía S.A. (Aragonesas) submitted a case brief on July 6, 2009, and the petitioners, Clearon Corporation and Occidental Chemical Corporation (collectively, the petitioners), submitted a rebuttal brief on July 14, 2009. On July 23, 2009, the Department held a public hearing concerning the issues addressed by the respondent and petitioners in their briefs.

Scope of Antidumping Duty Order

The products covered by this order are chlorinated isocyanurates. Chlorinated isocyanurates are derivatives of cyanuric acid, described as chlorinated s-triazine triones. There are three primary chemical compositions of chlorinated isocyanurates: (1) trichloroisocyanuric acid (Cl3(NCO)3); (2) sodium dichloroisocyanurate (dihydrate) (NaCl2(NCO)3 2H2O); and (3) sodium dichloroisocyanurate (anhydrous) (NaCl2(NCO)3). Chlorinated isocyanurates are available in powder, granular, and tableted forms. The order covers all chlorinated isocyanurates.

Chlorinated isocyanurates are currently classifiable under subheadings 2933.69.6015, 2933.69.6021, and 2933.69.6050 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isoscyanurates and other compounds including an unfused triazine ring. Although the HTSUS subheadings are provided for convenience and customs purposes, the written description of the scope of the order is dispositive.

Analysis of Comments Received

All issues raised in the case and rebuttal briefs submitted by the parties in this review are addressed in the memorandum from John M. Andersen, Acting Deputy Assistant Secretary for Antidumping and Countervailing Duty Operations, to Ronald K. Lorentzen, Acting Assistant Secretary for Import Administration, Antidumping Duty Administrative Review of Chlorinated Isocyanurates from Spain: Issues and Decision Memorandum for the Final Results (Issues and Decision Memorandum), dated concurrently with, and hereby adopted by, this notice. A list of the issues which parties raised and to which we responded in the Issues and Decision Memorandum is attached to this notice as an appendix. The Issues and Decision Memorandum is a public document which is on file in the Central Records Unit in room 1114 in the main Department building, and is accessible on the Web at http://www.ia.ita.doc.gov/frn. The paper copy and electronic version of the memorandum are identical in content.

Changes Since the Preliminary Results

Based on our analysis of comments received, we have made changes in the margin calculation for Aragonesas. For a discussion of these changes, see Memorandum to the File, from Myrna Lobo, Case Analyst, Antidumping Duty Review of Chlorinated Isocyanurates from Spain: Calculation Memorandum for the Final Results (September 24, 2009) at the section titled “Changes from the Preliminary Results” and Memorandum to Neal M. Halper, Director, Office of Accounting from Robert B. Greger, Senior Accountant, Cost of Production and Constructed Value Calculation Adjustments for the Final Results - Aragonesas Industrias y Energia S.A. (September 24, 2009).

Final Results of Review

We determine that the following percentage margin exists for the period June 1, 2007 through May 31, 2008:

Manufacturer/Exporter | Weighted-Average Margin (percentage)
Aragonesas Industrias y Energía S.A. | 28.04

Assessment

The Department shall determine, and CBP shall assess, antidumping duties on all appropriate entries.

We have calculated importer-specific per unit duty assessment rates based on the ratio of the total amount of antidumping duties calculated for the examined sales to the total entered value of the sales. We will instruct CBP to assess antidumping duties on all appropriate entries covered by this review if any importer-specific assessment rate calculated in the final results of this review is above de minimis (i.e., less than 0.50 percent). The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate unreviewed entries at the all-others rate established in the less-than-fair-value (LTFV) investigation if there is no rate for the intermediate company(ies) involved in the transaction.

Cash Deposit Requirements

The following cash deposit requirements will be effective upon publication of the final results of this administrative review for all shipments of the subject merchandise entered, or withdrawn from warehouse, for consumption on or after the publication date, consistent with section 751(a)(2)(C) of the Act: (1) the cash deposit rate for the reviewed company, Aragonesas, will be the rate shown above; (2) if the exporter is not a firm covered in this review, but was covered in a previous review or the original LTFV investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be the “All Others” rate established in the original LTFV investigation, which is 24.83 percent. See Chlorinated Isos Order. These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these final results of review in accordance with sections 751(a)(1) and 777(i)(1) of the Act.

Dated: September 24, 2009.
Ronald K. Lorentzen,
Acting Assistant Secretary for Import Administration.

Appendix

Issues in Decision Memorandum:

Comment 1: Whether the Department Should Eliminate from the G&A Ratio the Accrued Expenses Relating to the Asset Impairments and Restructuring Charges

Comment 2: Whether the Department was Correct to Revise Aragonesas' G&A Expense Allocation Relating to G&A Services Provided by its Parent Company

Comment 3: Whether the Department, in Calculating the G&A and the R&D Amounts to be Included in Aragonesas' Costs, Should First Eliminate from TOTCOM that Portion of TOTCOM that Relates to the Major Input Rule Adjustment for Chlorine

Comment 4:Whether the Department Should Set U.S. Warranty Expenses to Zero

Comment 5:Whether There Are Clerical Errors in the Department's Program or Calculations

Comment 6:Whether the Department Should Refrain from Zeroing for the Final Results

[FR Doc. E9-23705 Filed 9-30-09; 8:45 am]

BILLING CODE 3510-DS-S